NUCLEAR REGULATORY COMMISSION

Regulatory Guide; Issuance, Availability

The Nuclear Regulatory Commission has issued a new guide in its Regulatory Guide Series. This series has been developed to describe and make available to the public such information as methods acceptable to the NRC staff for implementing specific parts of the NRC's regulations, techniques used by the staff in evaluating specific problems or postulated accidents, and data needed by the staff in its review of applications for permits and licenses.

Regulatory Guide 1.190, “Calculational and Dosimetry Methods for Determining Pressure Vessel Neutron Fluence,” has been developed to provide guidance to licensees on state-of-the-art calculations and measurement procedures that are acceptable to the NRC staff for determining pressure vessel fluence.

Comments and suggestions in connection with items for inclusion in guides currently being developed or improvements in all published guides are encouraged at any time. Written comments may be submitted to the Rules and Directives Branch, Division of Administrative Services, Office of Administration, U.S. Nuclear Regulatory Commission, Washington, DC 20555. Specific questions on Regulatory Guide 1.190 may be directed to Mr. W. R. Jones at the NRC at (301) 415-7558, email WRJ@NRC.GOV.

Regulatory guides are available for inspection or downloading at the NRC's web site at <WWW.NRC.GOV> under Regulatory Guides and in NRC's Electronic Reading Room (ADAMS System) at the same site; Regulatory Guide 1.190 is under Accession Number ML010890301. Single copies of regulatory guides may be obtained free of charge by writing the Reproduction and Distribution Services Section, U.S. Nuclear Regulatory Commission, Washington, DC 20555-0001, or by fax to (301) 415-2289, or by email to <DISTRIBUTION@NRC.GOV>. Issued guides may also be purchased from the National Technical Information Service on a standing order basis. Details on this service may be obtained by writing NTIS, 5285 Port Royal Road, Springfield, VA 22161. Regulatory guides are not copyrighted, and Commission approval is not required to reproduce them.

(5 U.S.C. 552(a))

Dated at Rockville, Maryland, this 30th day of March 2001.
For the Nuclear Regulatory Commission
Ashok C. Thadani,
Director, Office of Nuclear Regulatory Research.

[FR Doc. 01-8631 Filed 4-6-01; 8:45 am]

BILLING CODE 7590-01-P